DEPARTMENT OF LABOR

Employment and Training Administration

[TA-W-63,139, TA-W-63,139D]

Valspar-Furniture Sales Group & International Color Design Center a Subsidiary of Valspar Global Wood Coatings d/b/a Engineered Polymer Solutions: High Point, NC; Including an Employee of Valspar-Furniture Sales Group & International Color Design Center a Subsidiary of Valspar Global Wood Coatings d/b/a Engineered Polymer Solutions: High Point, NC Working Out of Lafayette, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 20, 2008, applicable to workers of Valspar-Furniture Sales Group & International Color Design Center, a subsidiary of Valspar Global Wood Coatings, d/b/a/ Engineered Polymer Solutions, High Point, North Carolina. The notice was published in the Federal Register on July 14, 2008 (73 FR 40388).

At the request of the State agency, the Department reviewed the certification for workers of the subject firm. The workers are engaged in the production of wood coatings (paints, lacquers, and stains).

New information shows that a worker separation has occurred involving an employee (Mr. Reginald Gallant) working out of Lafayette, Indiana, in support of and under the control of the High Point, North Carolina, location of Valspar-Furniture Sales Group & International Color Design Center, a subsidiary of Valspar Global Wood Coatings, d/b/a/ Engineered Polymer Solutions.

Based on these findings, the Department is amending this certification to include an employee in support of the High Point, North Carolina, facility of the subject firm working out of Lafayette, Indiana.

The intent of the Department's certification is to include all workers of Valspar-Furniture Sales Group & International Color Design Center, a subsidiary of Valspar Global Wood Coatings, d/b/a Engineered Polymer Solutions, High Point, North Carolina, who qualify as secondarily affected by increased imports of wood coatings (paints, lacquers, and stains).

The amended notice applicable to TA-W-63,139 is hereby issued as follows:

“All workers of Valspar-Furniture Sales Group & International Color Design Center, a subsidiary of Valspar Global Wood Coatings, High Point, North Carolina, (TA-W-63,139), including an employee in support of Valspar-Furniture Sales Group & International Color Design Center, a subsidiary of Valspar Global Wood Coatings, High Point, North Carolina, working in Lafayette, Indiana (TA-W-63,139D), who became totally or partially separated from employment on or after May 6, 2007, through June 20, 2010, are eligible to apply for adjustment assistance under Section 223 of the Trade Act of 1974, and are also eligible to apply for alternative trade adjustment assistance under Section 246 of the Trade Act of 1974.”

Signed at Washington, DC, this 21st day of October 2008.
Elliott S. Kushner,
Certifying Officer, Division of Trade Adjustment Assistance.

[FR Doc. E8-26049 Filed 10-31-08; 8:45 am]

BILLING CODE 4510-FN-P